DEPARTMENT OF THE INTERIOR

Fish and Wildlife Service

[FWS-R5-R-2011-N219; BAC-4311-K9-S3]

James River National Wildlife Refuge, Prince George County, VA

AGENCY: Fish and Wildlife Service, Interior.

ACTION: Notice of intent to prepare a comprehensive conservation plan and environmental assessment; request for comments.

SUMMARY: We, the U.S. Fish and Wildlife Service (Service), intend to prepare a comprehensive conservation plan (CCP) and environmental assessment (EA) for James River National Wildlife Refuge (the refuge, NWR), which is located in Prince George County, Virginia. We provide this notice in compliance with our CCP policy to advise other Federal and State agencies, Tribes, and the public of our intention to conduct detailed planning on this refuge.

DATES: We will announce opportunities for public input throughout the CCP process in the Federal Register, local news media, and on our refuge planning Web site at: http://www.fws.gov/northeast/planning/jamesriver/ccphome.html.

ADDRESSES: Send your comments or requests for more information by any of the following methods.

Email: fw5rw_evrnwr@fws.gov. Include “James River CCP” in the subject line of the message.

Fax: Attn: Meghan Carfioli, (804) 829-9606.

U.S. Mail: U.S. Fish and Wildlife Service, Eastern Virginia Rivers National Wildlife Refuge Complex—Charles City Sub-Office, 11116 Kimages Road, Charles City, VA 23030.

In-Person Drop-off: You may drop off comments during regular business hours at the address above.

FOR FURTHER INFORMATION CONTACT: Meghan Carfioli, Planning Team Leader, (804) 829-5413 (phone) or Andy Hofmann, Project Leader, Eastern Virginia Rivers National Wildlife Refuge Complex, (804) 333-1470 (phone), fw5rw_evrnwr@fws.gov (email).

SUPPLEMENTARY INFORMATION:

Introduction

With this notice, we initiate our process for developing a CCP for James River NWR, in Prince George County, Virginia. This notice complies with our CCP policy to advise other Federal and State agencies, Tribes, and the public of our intention to conduct detailed planning on this refuge.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing to the mission of the National Wildlife Refuge System (NWRS), consistent with sound principles of fish and wildlife conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS, and to determine how the public can use each refuge. The planning process is a way for us and the public to evaluate management goals and objectives that will ensure the best possible approach to wildlife, plant, and habitat conservation, while providing for wildlife-dependent recreation opportunities that are compatible with each refuge's establishing purposes and the mission of the NWRS.

Our CCP process provides participation opportunities for Federal, Tribal, State, and local governments, organizations, and the public. Throughout the process, we will have formal comment periods and hold public meetings to gather comments, issues, concerns, and suggestions for the future management of James River NWR. You may also send comments during the planning process by mail, email, or fax (see ADDRESSES).

We will conduct the environmental review of this project and develop an EA in accordance with the requirements of the National Environmental Policy Act of 1969, as amended (NEPA) (42 U.S.C. 4321 et seq.); NEPA regulations (40 CFR parts 1500-1508); other appropriate Federal laws and regulations; and our policies and procedures for compliance with those laws and regulations.

James River National Wildlife Refuge

James River NWR is one of four refuges that comprise the Eastern Virginia Rivers National Wildlife Refuge Complex. James River NWR lies in the Chesapeake Bay watershed and is located along the James River in Prince George County, Virginia, approximately 8 miles southeast of the City of Hopewell and 30 miles southeast of the City of Richmond.

The refuge was established in 1991 to protect nationally significant nesting and roosting habitat for the bald eagle (Haliaeetus leucocephalus). The 4,325-acre refuge consists of riparian, wetland, and forested habitats, including loblolly pine plantations. These habitats support a variety of songbirds, raptors, rare plants, and other species of conservation concern. The federally threatened plant, sensitive joint-vetch (Aeschynomene virginica), occurs in wetlands on the refuge. The refuge also has a rich cultural history, illustrated by the numerous archaeological and historical sites on the refuge.

James River NWR also provides opportunities for the public to engage in wildlife-dependent recreation. Popular activities on the refuge include wildlife observation, nature photography, and onsite environmental education and interpretive programs. The refuge also offers an annual white-tailed deer hunt. Public access to the refuge is by permit to limit disturbance to bald eagles, as well as to minimize risks to public safety while habitat management activities (e.g., prescribed burning, timber management) are underway.

Scoping: Preliminary Issues, Concerns, and Opportunities

We have identified several preliminary issues, concerns, and opportunities that we intend to address in the CCP. These include the following:

• Opportunities to restore the native southern pine ecosystem and maintain a healthy riparian corridor along the James River and its tributaries;

• The potential to manage suitable habitat for red-cockaded woodpeckers (Picoides borealis), a federally listed species not currently known on the refuge but known to occur in an adjacent county;

• The protection of bald eagles and management of their nesting and roosting habitat;

• The protection of sensitive joint-vetch, a federally threatened wetland plant;

• The protection of cultural resources, including historical and archaeological sites;

• The amount and distribution of compatible public uses to allow;

• The potential for climate change to impact refuge resources;

• The potential for boundary expansion, including land acquisition and conservation easements;

• Opportunities to collaborate with partner organizations for interpretation and education programming.

We expect that members of the public, our conservation partners, and Federal, State, Tribal, and local governments may identify additional issues during public scoping.

Public Meetings

During the planning process, we will hold meetings for the public to provide comments, issues, concerns, and suggestions about refuge management. When we schedule formal comment periods and public meeting(s), we will announce them in the Federal Register, local news media, and on our refuge planning Web site at: http://www.fws.gov/northeast/planning/jamesriver/ccphome.html.

You can also obtain the schedule from the planning team leader or project leader (see FOR FURTHER INFORMATION CONTACT).

Public Availability of Comments

Before including your address, phone number, email address, or other personal identifying information in your comment, you should be aware that your entire comment—including your personal identifying information—may be made publicly available at any time. While you can ask us in your comment to withhold your personal identifying information from public review, we cannot guarantee that we will be able to do so.

Dated: December 5, 2011.
Salvatore M. Amato,
Acting Regional Director, Northeast Region, U.S. Fish and Wildlife Service.

[FR Doc. 2012-376 Filed 1-10-12; 8:45 am]

BILLING CODE 4310-55-P